SURFACE TRANSPORTATION BOARD

[Docket No. FD 34797 (Sub-No. 1)]

New England Transrail, LLC, D/B/A Wilmington & Woburn Terminal Railway—Construction, Acquisition and Operation Exemption—in Wilmington and Woburn, Mass

By petition filed June 24, 2016,¹ New England Transrail, LLC (NET) seeks an exemption under 49 U.S.C. 10502 from the prior approval requirements of 49 U.S.C. 10901 to acquire 5,727 feet of existing track, construct or rehabilitate a combined 10,838 feet of track, and operate as a rail carrier over the combined 16,565 feet of track on and adjacent to a parcel of land owned by the Olin Corporation and located in Wilmington and Woburn, Mass. NET states that, upon commencement of rail operations, it would transload a variety of commodities, including, for example, paper products, steel, scrap steel, wood products, corn syrup, and biofuels at three facilities on the site.²

¹ The petition for exemption in this proceeding is a resubmission of a petition for exemption previously filed in 2003 in New England Transrail, LLC—Construction, Acquisition, & Operation Exemption—in Wilmington & Woburn, Mass., Docket No. FD 34391 and a petition for exemption filed in 2005 in New England Transrail, LLC—Construction, Acquisition, & Operation Exemption—in Wilmington & Woburn, Mass., Docket No. FD 34797.

² The materials NET plans to transload are similar to those identified in NET's prior petition in Docket No. FD 34797. However, NET states that it no longer plans to “operate a municipal solid waste transfer station.” (Pet. 9.)

The petition for exemption raises issues that require consideration by the Board. By this decision, the Board is instituting a proceeding under 49 U.S.C. 10502(b). The issues presented by the petition will be addressed in a subsequent decision. Comments are due by November 4, 2016.

It is ordered:

1. Under 49 U.S.C. 10502(b), a proceeding is instituted.

2. Comments are due by November 4, 2016.

3. Notice of the Board's action will be published in the Federal Register.

4. This decision is effective on its date of service.

Decided: September 20, 2016.
By the Board, Rachel D. Campbell, Director, Office of Proceedings.
Tia Delano,
Clearance Clerk.

[FR Doc. 2016-22952 Filed 9-22-16; 8:45 am]

BILLING CODE 4915-01-P